DEPARTMENT OF JUSTICE

Antitrust Division

Notice Pursuant to The National Cooperative Research and Production Act of 1993—Southwest Research Institute (“SwRI”): Joint Industry Program—Development of an Instrument for Corrosion Detection in Insulated Pipes Using a Magnetostrictive Sensor

Notice is hereby given that, on July 12, 2000, pursuant to Section 6(a) of the National Cooperative Research and Production Act of 1993, 15 U.S.C. § 4301, et seq. (“the Act”), Southwest Research Institute (“SwRI”): Joint Industry Program—Development of an Instrument for Corrosion Detection in Insulated Pipes Using a Magnetostrictive Sensor has filed written notifications simultaneously with the Attorney General and the Federal Trade Commission disclosing changes in its membership/project status. The notifications were filed for the purpose of extending the Act's provisions limiting the recovery of antitrust plaintiffs to actual damages under specified circumstances. Specifically, Ishikawajima-Harima Heavy Industries Co., Ltd., Yokohama, Japan has been added as a party to this venture; Southwest Research Institute, San Antonio, TX has been dropped as a party to this venture; and the period of peformance has been extended to September 30, 2000. In addition, Chinese Petroleum Corporation, Taipei, Taiwan, Japan Energy Corporation, Niizo-Minami, Japan and TOA nondestructive Inspection Co., Ltd., Kitakyuushu, Japan have been participants in this group research project since December 11, 1998, December 1, 1997 and April 28, 1998 respectively, but due to an administrative oversight were inadvertently not noted as such in previous notices to the Federal Trade Commission and the Department of Justice.

No other changes have been made in either the membership or planned activity of the group research project. Membership in this group research project remains open, and southwest Research Institute (“SwRI”): Joint Industry Program—Development of an Instrument for Corrosion Detection in Insulated pipes Using a Magnetostrictive Sensor intends to file additional written notification disclosing all changes in membership.

On October 25, 1995, Southwest Research Institute (“SwRI”): Joint Industry Program—Development of an Instrument for Corrosion Detection in Insulated Pipes Using a Magnetostrictive Sensor filed its original notification pursuant to Section 6(a) of the Act. The Department of Justice published a notice in the Federal Register pursuant to Section 6(b) of the Act on February 23, 1996 (61 FR 7020).

The last notification was filed with the Department on March 6, 2000. A notice was published in the Federal Register pursuant to Section 6(b) of the Act on July 11, 2000 (65 FR 42727).

Constance K. Robinson,
Director of Operations, Antitrust Division.

[FR Doc. 00-25308 Filed 10-2-00; 8:45 am]

BILLING CODE 4410-11-M